INTERNATIONAL TRADE COMMISSION

[Investigation No. 731-TA-1415 (Final)]

Glycine From Thailand; Scheduling of the Final Phase of Anti-Dumping Duty Investigation

AGENCY: United States International Trade Commission.

ACTION: Notice.

DATES: Effective Date: August 16, 2019.

FOR FURTHER INFORMATION CONTACT: Celia Feldpausch 202-205-2387, Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: Effective October 31, 2018, the Commission established a general schedule for the conduct of the final phase of its investigations on glycine from China, India, Japan, and Thailand.¹ Due to the lapse in appropriations and ensuring cessation of Commission operations, the Commission revised its schedule on February 6, 2019, to conduct the final phase of its investigations on glycine from China, India, Japan, and Thailand ² following preliminary determinations by the U.S. Department of Commerce (“Commerce”) that countervailable subsidies are being provided to producers and exporters of glycine from China and India ³ and that imports of glycine from India and Japan,⁴ were being sold at less than fair value (“LTFV”) in the United States. Notice of the scheduling of the final phase of the Commission's investigations and of a public hearing to be held in connection therewith was given by posting copies of the notice in the Office of the Secretary, U.S. International Trade Commission, Washington, DC, and by publishing the notice in the Federal Register of February 6, 2019 (84 FR 3486). The hearing was held in Washington, DC, on April 30, 2019, and all persons who requested the opportunity were permitted to appear in person or by counsel. The Commission subsequently determined that imports of glycine from India and Japan are sold in the United States at LTFV and that imports of glycine are being subsidized by the governments of China and India.⁵ Commerce has issued a final affirmative determination that glycine from Thailand is being, or is likely to be, sold in the United States at LTFV.6 7 Accordingly, the Commission currently is issuing a supplemental schedule for its antidumping duty investigation on imports of glycine from Thailand.

¹ Glycine From China, India, Japan, and Thailand; Scheduling of the Final Phase of Countervailing Duty and Anti-Dumping Duty Investigations (83 FR 62345, December 3, 2018).

² Glycine From China, India, Japan, and Thailand; Revised Schedule for Final Phase of Investigations (84 FR 3486, February 6, 2019).

³ Glycine From the People's Republic of China: Final Affirmative Countervailing Duty Determination (84 FR 18489, May 1, 2019) and Countervailing Duty Investigation of Glycine From India: Affirmative Final Determination (84 FR 18482, May 1, 2019).

⁴ Glycine From India: Final Determination of Sales at Less Than Fair Value (84 FR 18487, May 1, 2019) and Glycine From Japan: Final Determination of Sales at Less Than Fair Value (84 FR 18484, May 1, 2019).

⁵ Glycine From China, India, and Japan; Determinations (84 FR 29238, June 21, 2019).

⁶ Glycine From Thailand: Final Determination of Sales at Less Than Fair Value and Final Affirmative Determination of Critical Circumstances in Part (84 FR 37998, August 5, 2019).

⁷ Glycine From Thailand: Final Negative Countervailing Duty Determination and Final Negative Critical Circumstances Determination (84 FR 38007, August 5, 2019).

This supplemental schedule is as follows: The deadline for filing supplemental briefs is August 30, 2019. Supplemental briefs may address only the Commission's final antidumping duty determination regarding imports of glycine from Thailand. These supplemental briefs may not exceed fifteen (15) pages in length. The supplemental staff report in the final phase of this investigation regarding subject imports from Thailand will be placed in the nonpublic record on September 5, 2019; and a public version will be issued thereafter. Parties to this investigation may file supplemental final comments that contain no new factual information and may not exceed five (5) pages in length, on September 10, 2019.

For further information concerning this investigation see the Commission's notice cited above and the Commission's Rules of Practice and Procedure, part 201, subparts A and B (19 CFR part 201), and part 207, subparts A and C (19 CFR part 207).

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigations must be served on all other parties to the investigations (as identified by either the public or BPI service list), and a certificate of service must be timely filed. The Secretary will not accept a document for filing without a certificate of service.

Authority: This investigation is being conducted under authority of title VII of the Tariff Act of 1930; this notice is published pursuant to section 207.21 of the Commission's rules.

By order of the Commission.
Issued: August 19, 2019.
Lisa Barton,
Secretary to the Commission.

[FR Doc. 2019-18144 Filed 8-22-19; 8:45 am]

BILLING CODE 7020-02-P